DEPARTMENT OF HEALTH AND HUMAN SERVICES

Health Resources and Services Administration

Ryan White HIV/AIDS Program, AIDS Education and Training Centers, The University of Washington, Northwest AIDS Education and Training Center

AGENCY: Health Resources and Services Administration (HRSA), Department of Health and Human Services (HHS).

ACTION: Notice of a deviation from competition requirements to award a program expansion supplement for the HIV/AIDS Bureau's (HAB) Ryan White HIV/AIDS Program, AIDS Education and Training Centers (AETC) (H4A), The University of Washington, Northwest AIDS Education and Training Center (NWAETC).

SUMMARY: HRSA will be issuing a non-competitive award under the AETC Program, to current grantee, the University of Washington NWAETC, for approximately $250,239 during the budget period July 1, 2014, to June 30, 2015. This will allow the University of Washington NWAETC to develop a unique and flexible HIV distance learning curriculum that can be used in a variety of health care settings by a variety of health care providers. This on-line curriculum will enhance our ability to reach and so increase the numbers of health care providers skilled in delivering HIV/AIDS care and treatment at a time when there is a greater demand for these professionals—especially primary care physicians.

SUPPLEMENTARY INFORMATION: Intended Recipient of the Award: The University of Washington, NWAETC (Grant # H4AHA00051). The amount of the noncompetitive award is $250,239.

Authority: Section 2692 of the Public Health Service Act, 42, U.S.C. 300ff-111.

CFDA Number: 93.145

Period of Supplemental Funding: July 1, 2014, through June 30, 2015.

Justification: With the implementation of the Affordable Care Act, more people, including those living with HIV/AIDS, are able to access care and are being seen by providers in a variety of settings, including community health care centers. This has resulted in an increased need for primary care providers to receive training in HIV care. A program expansion supplement will allow the NWAETC to develop a comprehensive portfolio of web-based, HIV primary care distance learning and assessment resources and tools that will reach greater numbers of health care providers across the nation. This free, state-of-the-art HIV care and treatment curriculum will be evidence-based and aligned with up-to-date federal guidelines. Further, the curriculum would be accessed in an online environment that is effective at assessing HIV training needs, providing relevant, tailored training to meet those needs, and will monitor and evaluate individual and group progress throughout the curriculum.

The University of Washington NWAETC, now in the fifth year of a 5-year project ending on June 30, 2015, is uniquely positioned to rapidly develop and deliver the national HIV care and treatment distance curriculum, having the necessary infrastructure for implementation already developed and in place, and having previously demonstrated the capacity to develop similar products. A distance HIV curriculum is consistent with the goals of the AETC program—to provide HIV treatment education, clinical consultation, capacity building, and technical assistance to health care professionals and agencies. An on-line HIV care and treatment training curriculum will help to better meet the HIV training needs of the current health care workforce that is working to achieve the goals of the National HIV/AIDS Strategy (NHAS).

FOR FURTHER INFORMATION CONTACT: Rupali K. Doshi, MD, MS, Acting Branch Chief, HIV Education Branch, Division of Training and Capacity Development, HAB/HRSA, 5600 Fishers Lane, Rockville, Maryland 20857, by email at rdoshi@hrsa.gov, or by phone at (301) 443-5313.

Dated: August 27, 2014.
Mary K. Wakefield,
Administrator.

[FR Doc. 2014-21012 Filed 9-3-14; 8:45 am]

BILLING CODE 4165-15-P